DEPARTMENT OF LABOR

Employment and Training Administration

[TA-W-51,957]

Temme Mold & Engineering, Evansville, IN; Notice of Termination of Investigation

Pursuant to Section 221 of the Trade Act of 1974, as amended, an investigation was initiated on June 6, 2003, in response to a petition filed by a company official on behalf of workers at Temme Mold & Engineering, Evansville, Indiana.

The petitioner has requested that the petition be withdrawn. Consequently, further investigation would serve no purpose and the investigation has been terminated.

Signed at Washington, DC, this 11th day of July, 2003.
Linda G. Poole,
Certifying Officer, Division of Trade Adjustment Assistance.

[FR Doc. 03-19224 Filed 7-28-03; 8:45 am]

BILLING CODE 4510-30-M